NATIONAL SCIENCE FOUNDATION

Sunshine Act Meeting; National Science Board

The National Science Board's Committee on National Science and Engineering Policy (SEP), pursuant to NSF regulations (45 CFR part 614), the National Science Foundation Act, as amended (42 U.S.C. 1862n-5), and the Government in the Sunshine Act (5 U.S.C. 552b), hereby gives notice of the scheduling of a teleconference for the transaction of National Science Board business, as follows:

TIME AND DATE: Wednesday, April 22, 2020 at 4:00-5:00 p.m. EDT.

PLACE: This meeting will be held by teleconference at the National Science Foundation, 2415 Eisenhower Avenue, Alexandria, VA 22314. An audio link will be available for the public. Contact the Board Office 24 hours before the teleconference to request the public audio link at nationalsciencebrd@nsf.gov.

STATUS: Open.

MATTERS TO BE CONSIDERED: Chair's opening remarks; discussion of outcomes from the committee retreat and items to be brought forth for discussion at the May NSB meeting.

CONTACT PERSON FOR MORE INFORMATION: Point of contact for this meeting is: Reba Bandyopadhyay (rbandyop@nsf.gov), 703/292-7000. Members of the public must contact the Board Office to request the public audio link by sending an email to nationalsciencebrd@nsf.gov at least 24 hours prior to the teleconference.

Meeting information and updates (time, place, subject matter or status of meeting) may be found at http://www.nsf.gov/nsb/meetings/notices.jsp#sunshine. Please refer to the National Science Board website www.nsf.gov/nsb for additional information.

Chris Blair,
Executive Assistant to the National Science Board Office.

[FR Doc. 2020-08179 Filed 4-14-20; 4:15 pm]

BILLING CODE 7555-01-P